COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds product and services to the Procurement List that will be furnished by nonprofit agencies employing persons who are blind or have other severe disabilities, and deletes products from the Procurement List previously furnished by such agencies.

DATES: Effective December 10, 2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 4/15/2016 (81 FR 22239) and 8/19/2016 (81 FR 55447-55448), the Committee for Purchase From People Who Are Blind or Severely Disabled published notices of proposed additions to the Procurement List.

After consideration of the material presented to it concerning capability of qualified nonprofit agencies to provide the product and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 8501-8506) in connection with the product and services proposed for addition to the Procurement List.

End of Certification

Accordingly, the following product and services are added to the Procurement List:

Product:

Product Name(s)—NSN(s): 8465-01-608-7507—Sack, Extreme Cold Weather Compression Stuff Sack, (ECW CSS) U.S. Marine Corps, One size fits all

Mandatory Source(s) of Supply: The Lighthouse for the Blind, Inc., Seattle, WA

Mandatory Purchase For: 50% of the requirement of the Department of Defense

Contracting Activity: Defense Logistics Agency Troop Support

Distribution: C-List

Services:

Service Type: Custodial Service

Mandatory for: DoDEA, DDESS, Fort Bragg Community Schools System: Bowley Elementary School, Fort Bragg, NC; Gary I Gordon Elementary School, Cameron, NC; Randall Shughart Elementary School, Cameron, NC, and; Randall Shughart Middle School, Cameron, NC.

Mandatory Source(s) of Supply: Brevard Achievement Center, Inc., Rockledge, FL

Contracting Activity: Dept of Defense Education Activity (DODEA), DDESS Area Service Center

Deletions

On 9/30/2016 (81 FR 67327) and 10/7/2017 (81 FR 69789-69790), the Committee for Purchase From People Who Are Blind or Severely Disabled published notices of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products:

NSN(s)—Product Name(s):

1670-01-468-9178—Line, Multi-Loop, low altitude parachute extraction system, 140′

1670-01-062-6304—Line, Multi-Loop, low altitude parachute extraction system, 9′

1670-01-062-6305—Line, Multi-Loop, low altitude parachute extraction system, 9′

1670-01-062-6310—Line, Multi-Loop, low altitude parachute extraction system, 11′

1670-01-062-6307—Line, Multi-Loop, low altitude parachute extraction system, 12′

1670-01-062-6311—Line, Multi-Loop, low altitude parachute extraction system, 120′

1670-01-063-7760—Line, Multi-Loop, low altitude parachute extraction system, 11′

1670-01-062-6313—Line, Multi-Loop, low altitude parachute extraction system, 60′

1670-01-107-7652—Line, Multi-Loop, low altitude parachute extraction system, 160′

1670-01-064-4452—Line, Multi-Loop, low altitude parachute extraction system, 60′

1670-01-064-4451—Line, Multi-Loop, low altitude parachute extraction system, 36′

1670-01-062-6312—Line, Multi-Loop, low altitude parachute extraction system, 120′

1670-01-062-6306—Line, Multi-Loop, low altitude parachute extraction system, 3′

1670-01-062-6303—Line, Multi-Loop, low altitude parachute extraction system, 12′

Mandatory Source(s) of Supply: Unknown

Contracting Activity: Defense Logistics Agency Aviation

1670-01-064-4454—Line, Multi-Loop, low altitude parachute extraction system, 60′

1670-01-062-6309—Line, Multi-Loop, low altitude parachute extraction system, 28′

1670-01-062-6301—Line, Multi-Loop, low altitude parachute extraction system, 3′

1670-01-062-6302—Line, Multi-Loop, low altitude parachute extraction system, 20′

1670-01-107-7651—Line, Multi-Loop, low altitude parachute extraction system, 140′

1670-01-064-4453—Line, Multi-Loop, low altitude parachute extraction system, 20′

1670-01-063-7761—Line, Multi-Loop, low altitude parachute extraction system, 16′

1670-01-062-6308—Line, Multi-Loop, low altitude parachute extraction system, 16′

Mandatory Source(s) of Supply: Unknown

Contracting Activity: W6QK ACC-APG Natick, Natick, MA

NSN(s)—Product Name(s): 3990-01-415-6951—Pallet, Runner

Mandatory Source(s) of Supply: Tarrant County Association for the Blind, Fort Worth, TX

Contracting Activity: General Services Administration, Fort Worth, TX

NSN(s)—Product Name(s): 7520-00-543-7149—Pen, Ballpoint, with Chain, Blue, Medium Pt

Mandatory Source(s) of Supply:

Industries of the Blind, Inc., Greensboro, NC

Industries for the Blind, Inc., West Allis, WI

Contracting Activity: General Services Administration, New York, NY

NSN(s)—Product Name(s):

8520-00-NIB-0110—Purell/Skilcraft Instant Hand Sanitizer Value Pack

8520-00-NIB-0111—Purell/Skilcraft 1200 mL Antibacterial Hand Wash Sa

8520-00-NIB-0120—Purell/Skilcraft, Instant Hand Sanitizer—foam

Mandatory Source(s) of Supply: Travis Association for the Blind, Austin, TX

Contracting Activity: Department of Veterans Affairs

NSN(s)—Product Name(s): 6532-00-122-0468—Cap, Operating, Surgical, Blue or Green

Mandatory Source(s) of Supply: Unknown

Contracting Activity: Strategic Acquisition Center, Fredericksburg, VA

NSN(s)—Product Name(s): 8455-00-985-7336—Scarf, Branch of Service, Aviation Units, USAF and USA, Blue

Mandatory Source(s) of Supply: Unknown,

Contracting Activity: Defense Logistics Agency Troop Support

NSN(s)—Product Name(s): 7920-00-297-1511—Brush, Scrub

Mandatory Source(s) of Supply: Industries for the Blind, Inc., West Allis, WI

Contracting Activity: General Services Administration, Fort Worth, TX

Barry S. Lineback,
Director, Business Operations.

[FR Doc. 2016-27217 Filed 11-9-16; 8:45 am]

BILLING CODE 6353-01-P